DEPARTMENT OF TRANSPORTATION

Federal Motor Carrier Safety Administration

[Docket No. FMCSA-2018-0120]

Agency Information Collection Activities; Revision of an Information Collection: Financial Responsibility, Trucking and Freight Forwarding

AGENCY: Federal Motor Carrier Safety Administration (FMCSA), DOT.

ACTION: Notice and request for comments.

SUMMARY: In accordance with the Paperwork Reduction Act of 1995, FMCSA announces its plan to submit the Information Collection Request (ICR) described below to the Office of Management and Budget (OMB) for its revision and approval and invites public comment. The ICR is related to Form BMC-32 titled, “Endorsement for Household Goods Motor Carrier Policies of Insurance for Cargo Liability Under 49 U.S.C. 13906.”

DATES: We must receive your comments on or before July 16, 2018.

ADDRESSES: You may submit comments identified by Federal Docket Management System (FDMS) Docket Number FMCSA-2018-0120 using any of the following methods:

• Federal eRulemaking Portal: http://www.regulations.gov. Follow the online instructions for submitting comments.

• Fax: 1-202-493-2251.

• Mail: Docket Operations; U.S. Department of Transportation, 1200 New Jersey Avenue SE, West Building, Ground Floor, Room W12-140, Washington, DC 20590-0001.

• Hand Delivery or Courier: U.S. Department of Transportation, 1200 New Jersey Avenue SE, West Building, Ground Floor, Room W12-140, Washington, DC, 20590-0001 between 9 a.m. and 5 p.m. e.t., Monday through Friday, except Federal holidays.

Instructions: All submissions must include the Agency name and docket number. For detailed instructions on submitting comments, see the Public Participation heading below. Note that all comments received will be posted without change to http://www.regulations.gov, including any personal information provided. Please see the Privacy Act heading below.

Docket: For access to the docket to read background documents or comments received, go to http://www.regulations.gov, and follow the online instructions for accessing the dockets, or go to the street address listed above.

Privacy Act: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

Public Participation: The Federal eRulemaking Portal is available 24 hours each day, 365 days each year. You can obtain electronic submission and retrieval help and guidelines under the “help” section of the Federal eRulemaking Portal website. If you want us to notify you that we received your comments, please include a self-addressed, stamped envelope or postcard, or print the acknowledgement page that appears after submitting comments online. Comments received after the comment closing date will be included in the docket and will be considered to the extent practicable.

FOR FURTHER INFORMATION CONTACT: Jeff Secrist, Office of Registration & Safety Information, Department of Transportation, Federal Motor Carrier Safety Administration, West Building 6th Floor, 1200 New Jersey Avenue SE, Washington, DC 20590. Telephone: 202-385-2367; email jeff.secrist@dot.gov.

SUPPLEMENTARY INFORMATION:

Background: The Secretary of Transportation (Secretary) is authorized to register for-hire motor carriers of property and passengers under the provisions of 49 U.S.C. 13902, surface freight forwarders under the provisions of 49 U.S.C. 13903, and property brokers under the provisions of 49 U.S.C. 13904. These persons may conduct transportation services only if they are registered pursuant to 49 U.S.C. 13901. The Secretary has delegated authority pertaining to these registration requirements to the FMCSA. The registration remains valid only if these transportation entities maintain, on file with the FMCSA, evidence of the required levels of financial responsibility pursuant to 49 U.S.C. 13906. FMCSA regulations governing the financial responsibility requirements for these entities are found at 49 CFR part 387. Form BMC-32 is an endorsement that must be attached to cargo insurance policies, but it is not filed with the FMCSA.

The Agency is seeking approval for use of Form BMC-32 titled, “Endorsement for Household Goods Motor Carrier Policies of Insurance for Cargo Liability Under 49 U.S.C. 13906.” Previously, Form BMC-32 was included as part of the collection covered by OMB Control Number 2126-0017 (“Financial Responsibility, Trucking and Freight Forwarding”). The last Notice of OMB Action providing approval of the BMC-32 form under OMB Control Number 2126-0017 was February 23, 2006, with an expiration date of February 28, 2009. Because 2126-0017 was recently renewed without including Form BMC-32, FMCSA is seeking approval of the form, with the intent of combining this approval with OMB Control Number 2126-0017.

Title: Financial Responsibility, Trucking and Freight Forwarding.

OMB Control Number: 2126-0017.

Type of Request: Revision of an approved ICR.

Respondents: Household goods carriers and household goods freight forwarders.

Estimated Number of Respondents: 4,773.

Estimated Time per Response: 10 minutes.

Expiration Date: May 31, 2020.

Frequency of Response: On occasion.

Estimated Total Annual Burden: 796 hours [4,773 respondents × 10 minutes per response].

Public Comments Invited: You are asked to comment on any aspect of this information collection, including: (1) Whether the proposed collection is necessary for the performance of FMCSA's functions; (2) the accuracy of the estimated burden; (3) ways for FMCSA to enhance the quality, usefulness, and clarity of the collected information; and (4) ways that the burden could be minimized without reducing the quality of the collected information. The agency will summarize or include your comments in the request for OMB's clearance of this information collection.

Issued under the authority of 49 CFR 1.87 on: May 9, 2018.
G. Kelly Regal,
Associate Administrator for Office of Research and Information Technology.

[FR Doc. 2018-10439 Filed 5-15-18; 8:45 am]

BILLING CODE 4910-EX-P